DEPARTMENT OF COMMERCE

International Trade Administration

(A-570-932)

Certain Steel Threaded Rod from the People's Republic of China: Amended Preliminary Determination of Sales at Less Than Fair Value and Postponement of Final Determination

AGENCY: Import Administration, International Trade Administration, Department of Commerce.

EFFECTIVE DATE: October 27, 2008.

SUMMARY: On October 8, 2008, the Department of Commerce (“Department”) published the preliminary determination of sales at less than fair value (“LTFV”) in the antidumping investigation of certain steel threaded rod from the People's Republic of China (“PRC”). See Certain Steel Threaded Rod from the People's Republic of China: Preliminary Determination of Sales at Less Than Fair Value, 73 FR 58931 (October 8, 2008) (“Preliminary Determination”). We are amending our Preliminary Determination to correct certain ministerial errors with respect to the antidumping duty margin calculation for RMB Fasteners Ltd. and IFI and Morgan Ltd. (collectively, “RMB & IFI Group”). The corrections to the RMB & IFI Group margin also affect the margin assigned to the companies receiving a separate rate.

FOR FURTHER INFORMATION CONTACT: Bobby Wong, AD/CVD Operations, Office 9, Import Administration, International Trade Administration, U.S. Department of Commerce, 14th Street and Constitution Avenue, N.W., Washington, DC, 20230; telephone: (202) 482-0409.

SUPPLEMENTARY INFORMATION: On October 8, 2008, the Department published in the Federal Register the preliminary determination that certain steel threaded rod from the PRC are being, or are likely to be, sold in the United States at LTFV, as provided in section 733 of the Tariff Act of 1930, as amended (“Act”). See Preliminary Determination.

On October 8, 2008, the RMB & IFI Group filed timely allegations of ministerial errors contained in the Department's Preliminary Determination. After reviewing the allegations, we have determined that the Preliminary Determination included significant ministerial errors. Therefore, in accordance with section 351.224(e) of the Department's regulations, we have made changes, as described below, to the Preliminary Determination.

Period of Investigation

The period of investigation is July 1, 2007, through December 31, 2007. This period corresponds to the two most recent fiscal quarters prior to the month of the filing of the petition, March 5, 2008. See section 351.204(b)(1) of the Department's regulations.

Scope of Investigation

The merchandise covered by this investigation is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to this investigation are non-headed and threaded along greater than 25 percent of their total length. A variety of finishes or coatings, such as plain oil finish as a temporary rust protectant, zinc coating (i.e., galvanized, whether by electroplating or hot-dipping), paint, and other similar finishes and coatings, may be applied to the merchandise.

Included in the scope of this investigation are steel threaded rod, bar, or studs, in which: (1) iron predominates, by weight, over each of the other contained elements; (2) the carbon content is 2 percent or less, by weight; and (3) none of the elements listed below exceeds the quantity, by weight, respectively indicated:

• 1.80 percent of manganese, or

• 1.50 percent of silicon, or

• 1.00 percent of copper, or

• 0.50 percent of aluminum, or

• 1.25 percent of chromium, or

• 0.30 percent of cobalt, or

• 0.40 percent of lead, or

• 1.25 percent of nickel, or

• 0.30 percent of tungsten, or

• 0.012 percent of boron, or

• 0.10 percent of molybdenum, or

• 0.10 percent of niobium, or

• 0.41 percent of titanium, or

• 0.15 percent of vanadium, or

• 0.15 percent of zirconium.

Steel threaded rod is currently classifiable under subheading 7318.15.5060 of the Harmonized Tariff Schedule of the United States (“HTSUS”). Although the HTSUS subheading is provided for convenience and customs purposes, the written description of the merchandise is dispositive.

Excluded from the scope of the investigation are: (a) threaded rod, bar, or studs which are threaded only on one or both ends and the threading covers 25 percent or less of the total length; and (b) threaded rod, bar, or studs made to American Society for Testing and Materials (“ASTM”) A193 Grade B7, ASTM A193 Grade B7M, ASTM A193 Grade B16, or ASTM A320 Grade L7.

Although the HTSUS subheading is provided for convenience and customs purposes, the written description of the merchandise is dispositive.

Significant Ministerial Error

Ministerial errors are defined in section 735(e) of the Act as “errors in addition, subtraction, or other arithmetic function, clerical errors resulting from inaccurate copying, duplication, or the like, and any other type of unintentional error which the administering authority considers ministerial.” Section 351.224(e) of the Department's regulations provides that the Department “will analyze any comments received and, if appropriate, correct any significant ministerial error by amending the preliminary determination.” A significant ministerial error is defined as a ministerial error, the correction of which, singly or in combination with other errors, would result in (1) a change of at least five absolute percentage points in, but not less than 25 percent of, the weighted-average dumping margin calculated in the original (erroneous) preliminary determination, or (2) a difference between a weighted-average dumping margin of zero or de minimis and a weighted-average dumping margin of greater than de minimis or vice versa. See section 351.224(g) of the Department's regulations.

Ministerial Error Allegations

Domestic & International Movement Expenses

The RMB & IFI Group argues that the Department incorrectly calculated the domestic movement and international movement expenses in the Department's calculation of U.S. price, by applying the incorrect units of measure. The RMB & IFI Group contends that the resulting weighted-average dumping margin was significantly inflated. See Memorandum to the File from Bobby Wong, Senior International Trade Analyst, through Scot T. Fullerton, Program Manager, AD/CVD Operations, Office 9: Antidumping Duty Investigation of Certain Steel Threaded Rod from the People's Republic of China: RMB & IFI Program Analysis for the Preliminary Determination, dated October 8, 2008. The RMB & IFI Group stated that a correction to the units of measure corresponding to domestic and international movement expenses would significantly reduce the calculated dumping margin, and would constitute a significant error as set forth in the statute. Therefore, the RMB & IFI Group urges that the Department correct the unit of measure used in the calculation of domestic and international movement expenses in the margin calculation program and in the company analysis memorandum.

With respect to domestic movement expenses, the Department finds that it overlooked the fact that the RMB & IFI Group reported the net-weight on an inconsistent unit of measure from the other data reported in U.S. sales database and, thus, the Department did not correct for the inconsistency.

Furthermore, with respect to international movement expenses, the Department agrees that the surrogate marine insurance expense should also be assessed using respondent's reported unit of measure rather than the total value of the shipment.

Therefore, we agree that the Department did not correctly calculate domestic and international movement expenses using a consistent unit of measure. This error qualifies as a ministerial error in accordance with section 735(e) of the Act. For detailed discussion, see Memorandum to File from Bobby Wong, Case Analyst; Investigation of Certain Steel Threaded Rod from the People's Republic of China: RMB & IFI Group Amended Preliminary Analysis Memorandum, dated concurrent with this Federal Register notice (“RMB & IFI Group Amended Prelim Analysis Memorandum”).

Amended Preliminary Determination

We determine that these allegations qualify as ministerial errors as defined in section 351.224(g) of the Department's regulations because they result in a change of more than five absolute percentage points to the RMB & IFI Group's dumping margin. Accordingly, we have corrected the errors alleged by the RMB & IFI Group. See RMB & IFI Group Amended Prelim Analysis Memorandum.

As a result of correcting the above errors in the RMB & IFI Group calculations, the margin for the companies granted separate-rate status must also be revised because the margin for those companies was partially derived from the RMB & IFI Group margin. See Memorandum to the File from Bobby Wong, Senior Analyst; Investigation of Certain Steel Threaded Rod from the People's Republic of China: Amended Preliminary Weight-Averaged Margin for Separate Rate Companies, dated concurrent with this Federal Register notice.

As a result of the corrected ministerial errors, the weighted-average dumping margins are:

Certain Steel Threaded Rod from the PRC
Exporter | Producer | Weighted-Average Margin
RMB Fasteners Ltd., and IFI & Morgan Ltd. (“RMB and IFI Group”) | Jiaxing Brother Fastener Co., Ltd. (aka Jiaxing Brother Standard Parts Co., Ltd.) | 40.49%%
Ningbo Yinzhou Foreign Trade Co. Ltd. | Zhejiang Guorui Industry Co., Ltd.; or Ningbo Daxie Chuofeng Industrial Development Co. Ltd. | 176.57%%

Separate Rates Entities | Producer | Margin
Shanghai Recky International Trading Co., Ltd. | Shanghai Xiangrong International Trading Co., Ltd.; Shanghai Xianglong International Trading Co., Ltd.; Pighu City Zhapu Screw Cap Factory; or Jiaxing Xinyue Standard Part Co., Ltd. | 55.48%%
Suntec Industries Co., Ltd. | Jiaxing Xinyue Standard Part Co., Ltd.; or Haiyan County No. 1 Fasteners Factory | 55.48%%
Hangzhou Grand Imp. & Exp. Co., Ltd. | Zhapu Creative Standard Parts Material Co., Ltd. | 55.48%%
Shanghai Prime Machinery Co. Ltd. | Haiyan Yida Fasteners Co., Ltd.; or Jiaxing Xinyue Standard Part Co., Ltd. | 55.48%%
Jiaxing Xinyue Standard Part Co., Ltd. | Jiaxing Xinyue Standard Part Co., Ltd. | 55.48%%
Certified Products International Inc. | Jiashan Zhongsheng Metal Products Co., Ltd.; or Jiaxing Xinyue Standard Part Co., Ltd. | 55.48%%
Zhejiang New Oriental Fastener Co., Ltd. | Zhejiang New Oriental Fastener Co., Ltd. | 55.48%%
Jiashan Zhongsheng Metal Products Co., Ltd. | Jiashan Zhongsheng Metal Products Co., Ltd. | 55.48%%
Haiyan Dayu Fasteners Co., Ltd. | Haiyan Dayu Fasteners Co., Ltd. | 55.48%%
PRC-wide Entity |  | 206.00%%

The collection of bonds or cash deposits and suspension of liquidation will be revised accordingly and parties will be notified of this determination, in accordance with section 733(d) and (f) of the Act.

Postponement of the Final Determination

In the Preliminary Determination, the Department stated that it would make its final determination for this antidumping duty investigation no later than 75 days after the preliminary determination.

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by petitioner. In addition, section 351.210(e)(2) of the Department's regulations require that requests by respondents for postponement of a final determination be accompanied by a request for extension of provisional measures from a four month period to not more than six months.

On October 8, 2008, Ningbo Yinzhou Foreign Trade Co., Ltd., one of the two mandatory respondents, requested a 60-day extension of the final determination and extension of the provisional measures. Thus, because our amended preliminary determination is affirmative, and the respondent requesting a postponement of the final determination and an extension of the provisional measures, accounts for a significant proportion of exports of steel threaded rod, and no compelling reasons for denial exist, we are postponing the deadline for the final determination by 60 days until February 20, 2009, based on the publication date of the Preliminary Determination.

International Trade Commission Notification

In accordance with section 733(f) of the Act, we have notified the International Trade Commission (“ITC”) of our amended preliminary determination. If our final determination is affirmative, the ITC will make its final determination as to whether the domestic industry in the United States is materially injured, or threatened with material injury, by reason of imports of steel threaded rod, or sales (or the likelihood of sales) for importation, of the merchandise under investigation, within 45 days of our final determination.

This determination is issued and published in accordance with sections 733(f), 735(a)(2), and 777(i) of the Act and sections 351.210(g) and 351.224(e) of the Department's regulations.

Dated: October 20, 2008.
Stephen J. Claeys,
Acting Assistant Secretary for Import Administration.

[FR Doc. E8-25549 Filed 10-24-08; 8:45 am]

BILLING CODE 3510-DS-S